DEPARTMENT OF HEALTH AND HUMAN SERVICES

Centers for Disease Control and Prevention

Disease, Disability, and Injury Prevention and Control Special Emphasis Panel (SEP): NIOSH Occupational Safety and Health Project Grants, Program Announcement Number (PAR) 06-484

In accordance with section 10(a)(2) of the Federal Advisory Committee Act (Pub. L. 92-463), the Centers for Disease Control and Prevention (CDC) announces the aforementioned meeting:

Time and Date: 8:30 a.m.-5:30 p.m., March 15, 2007 (Closed).

Place: Residence Inn, 1456 Duke Street, Alexandria, VA 22314, telephone 703-548-5474.

Status: The meeting will be closed to the public in accordance with provisions set forth in section 552b(c)(4) and (6), Title 5 U.S.C., and the Determination of the Director, Management Analysis and Services Office, CDC, pursuant to Public Law 92-463.

Matters To Be Discussed: The SEP meeting will include the review, discussion, and evaluation of applications received in response to “NIOSH Occupational Safety and Health Project Grants,” PAR 06-484. The applications being reviewed include information of a confidential nature, including personal information concerning individuals associated with the applications.

This Federal Register Notice is being published on less than 15 calendar days notice to the public (41 CFR 102-3.150(b)), for the following reason: The cancellation of a preparatory meeting scheduled for January 16th due to inclement weather caused the late publication of this notice. Convening the preparatory meeting was necessary before this meeting could be scheduled. The preparatory meeting occurred on February 20-21, 2007, which enabled the program to finalize plans for this meeting.

For Further Information Contact:Charles Rafferty, Ph.D., Designated Federal Officer, 1600 Clifton Road NE, Atlanta, GA 30333, telephone 404-498-2582.

The Director, Management Analysis and Services Office, has been delegated the authority to sign Federal Register notices pertaining to announcements of meetings and other committee management activities, for both CDC and the Agency for Toxic Substances and Disease Registry.

Dated: February 26, 2007.
Elaine L. Baker,
Acting Director, Management Analysis and Services Office, Centers for Disease Control and Prevention.

[FR Doc. E7-3653 Filed 2-28-07; 8:45 am]

BILLING CODE 4163-18-P